NATIONAL SCIENCE FOUNDATION

Advisory Committee for Cyberinfrastructure; Notice of Meeting

In accordance with the Federal Advisory Committee Act (Pub. L. 92-463, as amended), the National Science Foundation announces the following meeting:

Name: Advisory Committee for Cyberinfrastructure (25150).

Date and Time: October 17, 2012, 12 p.m.-2 p.m.

Place: National Science Foundation, 4201 Wilson Blvd., Rm 1295, Arlington, VA 22230, Virtual Meeting.

Type of Meeting: Open.

Contact Person: Kristen Oberright, Office of the Director, Office of Cyberinfrastructure (OD/OCI), National Science Foundation, 4201 Wilson Blvd., Suite 1145, Arlington, VA 22230, Telephone: 703-292-8970.

Minutes: May be obtained from the contact person listed above.

Purpose of Meeting: To advise NSF on the impact of its policies, programs and activities on the CI community. To provide advice to the Director/NSF on issues related to long-range planning.

Agenda: Discussion of proposed realignment of the Office of Cyberinfrastructure to become a division within the Directorate for Computer and Information Science and Engineering.

Dated: September 19, 2012.
Susanne Bolton,
Committee Management Officer.

[FR Doc. 2012-23468 Filed 9-21-12; 8:45 am]

BILLING CODE 7555-01-P